DEPARTMENT OF JUSTICE

Notice of Lodging of Proposed Consent Decree Under the Safe Drinking Water Act

On March 28, 2018, the Department of Justice lodged a Consent Decree with defendant Beaverhead County Jackson Water and/or Sewer District (“Beaverhead”) in the United States District Court for the District of Montana. The Consent Decree resolves claims under Sections 1412 and 1414(b) of the Safe Drinking Water Act (“SDWA”), 42 U.S.C. 300g-1 and 300g-3(b), for violations of certain National Primary Drinking Water Regulations (“NPDWRs”) in the public water supply system in Beaverhead County, Montana. The Complaint filed concurrently with the Consent Decree alleges that Beaverhead owned and/or operated a public water system and failed to comply with maximum contaminant levels and monitoring and reporting requirements. The proposed Consent Decree obligates Beaverhead to achieve and maintain continual, long-term compliance with the NPDWRs and state drinking water regulations.

The publication of this notice opens a period for public comment on the Consent Decree. Comments should be addressed to the Acting Assistant Attorney General, Environment and Natural Resources Division, and should refer to United States of America v. Beaverhead County Jackson Water and/or Sewer District, Civil Action No. 2:18-cv-00023 (D. Mont.), DOJ number 90-5-1-1-11445. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $6.25 (25 cents per page reproduction cost) payable to the United States Treasury. For a paper copy without the exhibits and signature pages, the cost is $5.50.

Robert Brook,
Assistant Section Chief, Environmental Enforcement Section, Environment and Natural Resources Division.

[FR Doc. 2018-07067 Filed 4-5-18; 8:45 am]

BILLING CODE 4410-15-P